DEPARTMENT OF JUSTICE

Office of Justice Programs

[OJP (NIJ) Docket No. 1640]

Contraband Screening for Criminal Justice Applications

AGENCY: National Institute of Justice, JPO, DOJ.

ACTION: Notice of request for information.

SUMMARY: The National Institute of Justice (NIJ) is soliciting information on commercially available person screening portals or detectors for use by criminal justice and law enforcement for the detection of contraband. Screening technology is widely used by criminal justice practitioners (in particular, correctional facilities) to improve the safety and security of staff, visitors, inmates, and suspects. Technologies that can detect non-metallic objects and/or items concealed within body cavities are the primary focus of this Request for Information (RFI), but information on traditional metal detectors will also be accepted. The NIJ Sensor, Surveillance and Biometric Technologies Center of Excellence (SSBT CoE) intends to produce and publish a market survey report on contraband screening technologies to inform the criminal justice community.

Information Sought: The NIJ SSBT CoE seeks input to inform the planning and preparation of an upcoming Contraband Screening Technology Report. Vendors who respond to this request for information are invited to provide general comments with regard to this report for the SSBT CoE to consider, including which categories are appropriate for product comparison. Vendors are also invited to provide suggestions for product or technology content related to contraband screening for consideration for inclusion in the report. Content related to screening on non-metallic objects and/or items concealed within body cavities is encouraged. The NIJ SSBT CoE intends to include, at minimum, the following categories of information for each contraband screening system/device:

1. Model Number and Name of the screening system/device.

2. Technology used by the system/device for detection (e.g., transmission x-ray, active millimeter wave).

3. Size Class of the system/device: Fixed, Portable, or Handheld.

4. Physical Dimensions of the system/device.

5. Weight of the system/device.

6. Whether the system/device Detects Metal objects.

a. If YES, whether there are any types of metals that are NOT detected by the system.

7. Whether the system/device Detects Non-Metal objects.

a. If YES, whether any of the following can be detected by the system/device: Liquids (in a container or bag), Gels (in a container or bag), Plastic, Wood, Ceramic, Powder (in a small packet), and/or Paper (e.g., folded currency).

8. Whether the system/device can detect objects Concealed within Body Cavities.

a. If YES, whether any screening limitations exist or if all body cavities are covered by the system/device.

9. For object materials detected by the system/device (Question #6-7), the minimum Detected Size of objects on a person and concealed within body cavities.

10. Scan Rate of the system/device.

11. Total Inspection Time per individual screened with the system/device (i.e. Throughput).

12. Penetration Depth of the system/device's scan when used on a clothed person.

13. Whether the system/device scan penetrates concealed Body Armor. If so, what classifications or types of armor can be imaged through.

14. Spatial Resolution of the system/device scan with respect to concealed object dimensions/features (indicate Not Applicable for a system/device that only provides a detection alarm and no image).

15. When scanning a person, the Information View displayed to the operator—Alarm Only, Body Location Alarm, Anomaly Image, Body Region Image, or Full Body Image.

16. Whether the system/device includes any Privacy safeguards or features (e.g., remote viewing, body masking).

17. Image Visualization Time of the system/device—Alarm Only, Real-Time Dynamic Imaging, Delayed Dynamic Imaging, or Static Imaging.

18. Data Management provided for images and alarms, with respect to saving, archiving, retrieving, and printing subject scan information.

19. Power requirements of the system/device.

20. Regulatory & Compliance Safety requirements and/or standards that the system/device adheres to.

21. Warranty that comes standard with the system/device.

22. Manufacturer Suggested Retail Price (MSRP).

23. Extended Maintenance plans available.

24. Cost(s) of any Service Contracts.

25. Other information or notes that are relevant to the system/device.

If a vendor wishes to submit information on screening technology or product(s), the CoE would prefer that a separate set of responses be submitted for each screening device/portal for which information is being provided. Only products that are commercially available for general purchase in the United States as of January 21, 2014 will be considered for inclusion in the report. It is recommended that the responses follow the information numbering included above for ease of reference.

DATES: Responses to this request will be accepted through 11:59 p.m. Eastern Time on January 21, 2014.

ADDRESSES: Responses to this request may be submitted electronically in the body of or as an attachment to an email sent to ssbtcoe@mantech.com with the recommended subject line “Contraband Screening Federal Register Response”. Questions and responses may also be sent by mail (please allow additional time for processing) to the address: NLECTC Sensor, Surveillance and Biometric Technologies Center of Excellence, ManTech International Corporation, ATTN: Contraband Screening Federal Register Response, 1000 Technology Dr. Ste 2310, Fairmont, WV 26554.

FOR FURTHER INFORMATION CONTACT: For more information on this request for information contact Lars Ericson (SSBT CoE) at (304) 368-4216 or lars.ericson@mantech.com. For more information on the NIJ SSBT CoE, visit https://www.justnet.org/our_centers/COEs/sensor-tce.html or contact Mark Greene (NIJ Office of Science and Technology) at (202) 307-3384 or mark.greene2@usdoj.gov. Please note that these are not toll-free telephone numbers.

Gregory K. Ridgeway,
Acting Director, National Institute of Justice.

[FR Doc. 2013-30241 Filed 12-18-13; 8:45 am]

BILLING CODE 4410-18-P